DEPARTMENT OF TRANSPORTATION

Federal Highway Administration

Environmental Assessment: Jefferson County, IN and Trimble County, KY

AGENCY: Federal Highway Administration (FHWA), DOT.

ACTION: Notice of Intent (NOI).

SUMMARY: The Federal Highway Administration (FHWA) is issuing this notice to advise the public that FHWA will prepare an Environmental Assessment (EA) to determine the need and feasibility of improvements to the Ohio River Crossing along U.S. 421 in Jefferson County, Indiana and Trimble County, Kentucky. This project will adhere to the requirements of section 6002 of SAFETEA-LU. The existing bridge connects the historic communities of Milton, Kentucky and Madison, Indiana. The objectives of this study are to assess the feasibility of rehabilitating or replacing the bridge, as well as other alternatives, for improving safety and mobility in the general project vicinity.

Comments on the scope of the EA for the proposed project should be forwarded no later than September 12, 2008.

FOR FURTHER INFORMATION CONTACT: Address all comments concerning this notice to Greg Rawlings of the FHWA Kentucky Division at 502.223.6728 or via e-mail at Gregory.Rawlings@FHWA.dot.gov. For additional information, contact Robert Martin, P.E., Project Manager for the Kentucky Transportation Cabinet, at 502.564.3730 or via e-mail at RobertD.Martin@KY.gov.

SUPPLEMENTARY INFORMATION: The FHWA, in cooperation with the Kentucky Transportation Cabinet (KYTC) and Indiana Department of Transportation (INDOT), will prepare an EA to determine the need and feasibility of rehabilitating or replacing the Milton Madison Bridge and its approaches over the Ohio River between Indiana and Kentucky. The current structure was originally constructed in 1929 then later rehabilitated in the late 1990s. The existing bridge is 3,181 feet in length and has two 10-foot travel lanes. The study area includes the existing U.S. 421 corridor and the general vicinity of the communities of Milton, Kentucky and Madison, Indiana. The nearest alternate crossings are the I-65 Kennedy Bridge in Louisville (46 miles downstream) and the bridge at Markland Locks and Dam (26 miles upstream). The condition of the Milton Madison Bridge is prompting this project, coupled with other issues including traffic demand and accessibility.

The objectives of this study are to assess the feasibility of rehabilitating or replacing the bridge, as well as other alternatives, for improving safety and mobility in the general project vicinity. This study will conform to Kentucky's environmental guidance, Indiana's procedural manual for preparing environmental documents, and the new SAFETEA-LU section 6002 requirements.

Environmental Issues: Possible environmental impacts include effects to historical properties, historic districts, or archaeological sites, specifically as related to Madison's status as a National Historic Landmark; displacement of commercial and/or residential properties; increased noise; viewshed impacts; impacts to water resources, flood plains, prime farmland, sensitive biological species and their habitat; land use compatibility impacts; community impacts; and impacts to agricultural lands.

Alternatives: The EA will consider alternatives that include the No-Build (Do Nothing) Alternative as well as a full range of build alternatives including rehabilitating the existing structure, applying transportation system management principles, and constructing a new bridge on the existing or new alignment.

Scoping and Comment: FHWA encourages broad participation in the EA process and review of the resulting environmental documents. Comments, questions, and suggestions related to the project and potential socioeconomic and environmental concerns are invited from all interested agencies and the public at large to ensure that the full range of issues related to the proposed action and all reasonable alternatives are considered and all significant issues are identified. These comments, questions, and suggestions should be forwarded to either phone number or e-mail address listed above.

Early Coordination Letters will be sent to the appropriate Federal, State and local agencies by September 2008 describing the project, following a project kick-off coordinated through a media news release. An invitation letter will be sent to potential Cooperating Agencies, Participating Agencies, and Section 106 Consulting Parties inviting the agencies to officially take part in the study, encouraging agency comments and suggestions concerning the proposed project, and further defining the roles of agencies. Existing and future conditions will be identified as work progresses and presented to stakeholders, agencies, and the public. The draft purpose and need for the project will be developed and preliminary alternatives identified. The agencies, stakeholders, and public will have an opportunity to review and comment on this information. The purpose and need and preliminary alternatives will be available for public review and a Resource Agency Meeting, Project Advisory Group Meeting, and Public Information Meeting will be held. Public notice will be given as to the time and place of the meetings. Agencies and the public will also have an opportunity to comment at various study stages, including: (1) Definition of purpose and need; (2) establishment of screening criteria; (3) screening of initial alternatives; (4) selection of final alternatives; and (5) the review of environmental documentation. Project Advisory Group meetings will be conducted regularly as the project moves forward to secure input from key stakeholders as decisions are made.

Notices of availability for the purpose and need and identification of preliminary alternatives, evaluation and screening of preliminary alternatives, and identification of final alternatives will be provided through direct mail, e-mail, the project Web site available at http://www.miltonmadisonbridge.com, and other media. Notification also will be sent to Federal, State, local agencies, persons and organizations that submit comments or questions. Precise schedules and locations for public meetings will be announced in the local news media and the project Web site. Interested individuals and organizations may request to be included on the mailing list for distribution of meeting announcements and associated information.

Other Approvals for Federal Permits: The following approvals for Federal permits are anticipated to be required: The Navigational Permit Application from the U.S. Coast Guard and the Section 404 Permit from the Army Corps of Engineers. Additionally, Section 401 Permits may be required from the Kentucky Energy and Environment Cabinet and the Indiana Department of Environmental Management.

(Catalog of Federal Domestic Assistance Program No. 20.205, Highway Planning and Construction. The regulations implementing Executive Order 12372 regarding intergovernmental consultation on Federal programs and activities apply to the program.)

Authority: 23 U.S.C. 315; 23 CFR 771.123; 49 CFR 1.48.

Issued on: July 30, 2008.
Dennis Luhrs,
Assistant Division Administrator, Federal Highway Administration, Frankfort, Kentucky.

[FR Doc. E8-18832 Filed 8-13-08; 8:45 am]

BILLING CODE 4910-22-P